ENVIRONMENTAL PROTECTION AGENCY

[FRL-7007-3]

Adequacy Status of Submitted State Implementation Plan for Transportation Conformity Purposes; Houston-Galveston Area (HGA) Ozone Attainment Demonstration

AGENCY: Environmental Protection Agency (EPA).

ACTION: Notice of inadequacy determination.

SUMMARY: The EPA is notifying the public that we have found the motor vehicle emissions budgets (the budgets), in the HGA Ozone Attainment Demonstration State Implementation Plan (SIP) submitted on November 12, 1999, inadequate for transportation conformity purposes. The EPA's determination of inadequacy is based on the fact that it is clear that the budgets in the November 12, 1999, SIP submission can no longer be considered adequate and consistent with attainment requirements. As explained in detail in the Office of Transportation and Air Quality (OTAQ) guidance memorandum entitled “Application of 40 CFR 93.104(e) to Houston Attainment SIP”, dated May 9, 2001, the 1999 Rate-Of-Progress budgets are considered the applicable budgets until replaced by subsequent budgets in accordance with 40 CFR 93.118. In addition, this determination that the budgets are not adequate does not have any adverse implications on the conformity process or the current conforming transportation Plan or program.

DATES: This inadequacy determination is effective on May 9, 2001.

FOR FURTHER INFORMATION CONTACT: Mr. J. Behnam, P.E., The U.S. Environmental Protection Agency, 1445 Ross Avenue, Dallas, Texas 75202; telephone (214) 665-7247.

SUPPLEMENTARY INFORMATION:

Background

Today's notice is simply an announcement of a finding that EPA has already made. The EPA sent a letter to the Texas Natural Resource Conservation Commission (TNRCC) on May 9, 2001, finding that the budgets submitted on November 12, 1999, are not adequate.

Transportation conformity is required by section 176(c) of the Clean Air Act (CAA). The EPA's conformity rule requires that transportation plans, programs, and projects conform to SIPs and establishes criteria and procedures for making conformity determinations. Conformity to a SIP means that transportation activities will not produce new air quality violations, worsen existing violations, or delay timely attainment of the national ambient air quality standards.

The EPA described the process for determining adequacy of the submitted SIP budgets in a guidance memorandum entitled Conformity Guidance on Implementation of March 2, 1999, Conformity Court Decision, dated May 14, 1999. This guidance is used in making the adequacy determination on the budgets contained in the control strategy SIPs. The criteria by which EPA determines whether a SIP's budgets are adequate for conformity purpose are specified in 40 CFR 93.118(e)(4). An adequacy review is a separate process from EPA's SIP completeness review, and also it should not be used to prejudge EPA's ultimate action to approve or disapprove the SIP.

The Governor of Texas submitted the HGA Ozone Attainment Demonstration SIP on November 12, 1999. The HGA Ozone Attainment Demonstration SIP contained the year 2007 budgets of 79.00 tons/day for Volatile Organic Compounds (VOC) and 195.00 tons/day for Nitrogen Oxides ( NOX) for the ozone nonattainment area. On May 31, 2000, the EPA sent a letter to the TNRCC stating that the budgets for VOC and NOX in the November 12, 1999, HGA Ozone Attainment Demonstration SIP were adequate for transportation conformity purposes. The EPA published a notice in the Federal Register on June 14, 2000, (65 FR 37368) announcing that we had made an adequacy determination for the budgets submitted in HGA Ozone Attainment Demonstration SIP. This finding was also announced on EPA's conformity web site, http://www.epa.gov/oms/traq.

On December 20, 2000, the Governor of Texas submitted another revision to the HGA Attainment Demonstration SIP which contained a set of revised year 2007 budgets for the on-road mobile sources. These budgets were 79.51 tons/day and 151.6 tons/day for VOC and NOX, respectively. Subsequently, the EPA posted these budgets on its web site for public review. However, the EPA has not made any adequacy determination on these budgets. On May 30, 2001, the TNRCC proposed additional revisions to the HGA Attainment Demonstration SIP that will further change the budgets for the on-road mobile sources.

The EPA has now determined that the budgets contained in the HGA Ozone Attainment Demonstration SIP submitted on November 12, 1999, are inadequate for transportation conformity purposes. We cannot support adequacy of these budgets because they do not accurately reflect the HGA on-road mobile source emissions and are not consistent with HGA reaching attainment of the ozone air quality standard. One of the criteria for budget adequacy is that the budgets, when considered together with all other emissions sources, are consistent with applicable requirements for the given implementation plan submission, in this case attainment of the ozone standard by the applicable CAA attainment date. We have determined, by following our rule and guidance, that the HGA Ozone Attainment Demonstration SIP budgets submitted on November 12, 1999, are not consistent with attainment of the ozone standard and therefore are not adequate.

As explained in detail in the OTAQ's memorandum referenced earlier, the 1999 Rate-Of-Progress budgets are considered the applicable budgets until replaced by subsequent budgets in accordance with 40 CFR 93.118. In addition, this determination that the budgets are not adequate does not have any adverse implications on the conformity process or the current conforming transportation Plan or program.

The effective date of this determination is May 9, 2001, the date of the EPA's letter that notified the TNRCC of our inadequacy determination. Even though adequacy determinations are not considered rulemaking subject to procedural requirements of the Administrative Procedures Act, the EPA's policy is to provide a notice and comment period on adequacy determinations through its conformity web site. However, we are not providing opportunity for comment on this inadequacy determination because adequacy determinations are not considered rulemaking subject to the procedural requirements of the Administrative Procedures Act. In addition, the EPA does not believe that it was necessary to provide an opportunity for advance notice or comment on this inadequacy determination because we believe it is clear that the budgets can no longer be considered adequate and consistent with attainment. There was also good cause to act expeditiously in order to protect the public interest, given the potential May 12, 2001, conformity lapse date under 40 CFR 93.104(e)(2) and its associated restrictions. Making this action effective on May 9, 2001, would relieve these restrictions. The substance of the revised attainment budgets will be further reviewed by EPA as part of its final decision to approve or disapprove the HGA Ozone Attainment Demonstration SIP for the Houston nonattainment area. The EPA will consider all of these submissions as well as all public comments in our evaluation whether to approve or disapprove the HGA Ozone Attainment Demonstration SIP.

The EPA will also announce this inadequacy determination on its conformity web site at http://www.epa.gov/oms/traq.

Dated: June 19, 2001.
Lynda F. Carroll,
Acting Regional Administrator, Region 6.

[FR Doc. 01-16810 Filed 7-3-01; 8:45 am]

BILLING CODE 6560-50-P